DEPARTMENT OF THE INTERIOR

Bureau of Land Management

[OR-130-2810-HT; GPO-0284]

Notice of Regulated Fire Closure for Bureau of Land Management Public Lands in the State of Washington

AGENCY: Bureau of Land Management, Spokane District.

SUMMARY: Pursuant to 43 CFR 9212.2, the following acts are prohibited on public lands within the Spokane District, Bureau of Land Management (BLM) including Juniper Forest/Juniper Dunes Recreation Area, and areas surrounding Hog Canyon, Miller Ranch/Fishtrap, Pacific Lake, Twin Lakes, Coffeepot, Yakima River Canyon, Douglas Creek, Chopaka/Palmer Mountain, Split Rock, Liberty, Saddle Mountains, Lakeview Ranch/Lake Creek, Boundary Dam, and Escure Ranch/Rock Creek recreation sites, beginning at noon July 15, 2000 until further notice.

1. Building, maintaining, attending or using a fire, campfire or stove fire, including charcoal briquette fire (43 CFR 9212.2).

Note: Liquified and bottled gas stoves and heaters are permitted provided that they are within an area at least 10 feet in diameter that is barren or clear of all flammable material.

2. Smoking while traveling in timber, brush or grass areas, except in vehicles on roads, on barren or cleared areas at least 3 feet in diameter or boats on rivers and lakes.

3. Operating any type of motorized vehicle off developed roadways. Parking of vehicles off roadways must be done in an area barren of flammable materials (43 CFR 9212.2(b)(1)).

Note: Developed roadways are those which are clear of flammable debris, berm to berm. Juniper Dunes Recreation Area is Exempt.

Pursuant to 43 CFR 9212.3(a) the following persons are exempt from this order:

1. Persons with a permit that specifically authorized the otherwise prohibited act or omission.

2. Any Federal, State or local officer or a member of an organized rescue or firefighting force in the performance of an official duty.

Violation of these prohibitions is punishable by a fine of not more than $1,000.00 or to imprisonment of not more than 12 months, or both.

FOR FURTHER INFORMATION CONTACT: Scott Boyd, Fire Management Officer, Bureau of Land Management, Spokane District Officer, 1103 N. Fancher Road, Spokane Washington, 99212; or call (509) 536-1200.

Dated July 11, 2000.
Joseph K. Buesing,
District Manager.

[FR Doc. 00-17987 Filed 7-14-00; 8:45 am]

BILLING CODE 4310-33-U